DEPARTMENT OF COMMERCE

National Oceanic and Atmospheric Administration

RIN 0648-XG035

Western Pacific Fishery Management Council; Public Meetings

AGENCY: National Marine Fisheries Service (NMFS), National Oceanic and Atmospheric Administration (NOAA), Commerce.

ACTION: Notice of public meetings, hearings, and a partially closed meeting.

SUMMARY: The Western Pacific Fishery Management Council (Council) will hold its Social Science Planning Committee (SSPC) meeting, 128th Scientific and Statistical Committee (SSC) meeting, 172nd Council meeting and its associated meetings to take actions on fishery management issues in the Western Pacific Region. A portion of the Council's Executive, Budget and Legislative Standing Committee meeting will be closed to the public.

DATES: The meetings will be held between March 5 and March 16, 2018. For specific times and agendas, see SUPPLEMENTARY INFORMATION.

ADDRESSES: The SSPC; 128th SSC; the Council's Pelagic and International Standing Committee and Executive, Budget and Legislative Standing Committee meetings will be held at the Council office, 1164 Bishop Street, Suite 1400, Honolulu, HI 96813, phone: (808) 522-8220. The 172nd Council meeting will be held at the Laniakea YWCA, Fuller Hall, 1040 Richards Street, Honolulu, HI 96813, phone: (808) 538-7061. The Fishers Forum will be held at the Pomaika`i Ballrooms at Dole Cannery Iwilei, 735 Iwilei Rd., Honolulu, HI 96817, phone: (808) 369-8600.

FOR FURTHER INFORMATION: Contact Kitty M. Simonds, Executive Director, Western Pacific Fishery Management Council; phone: (808) 522-8220.

SUPPLEMENTARY INFORMATION: The SSPC meeting will be held between 1 p.m. and 5 p.m. on March 5, 2018. The 128th SSC meeting will be held between 8:30 a.m. and 5 p.m. on March 6-8, 2018. The Executive, Budget and Legislative Standing Committee meeting will be held on March 13, 2018, from 9 a.m. to 12 noon. The portion of the Executive, Budget and Legislative Standing Committee meeting from 9:30 a.m. to 10 a.m. will be closed to the public in accordance with Section 302(i)(3) of the Magnuson-Stevens Fishery Conservation and Management Act (MSA). The Pelagic and International Standing Committee will be held on March 13, 2018, between 2 p.m. and 5 p.m. The 172nd Council meeting will be held between 8:30 a.m. and 5 p.m. on March 14-16, 2018. On March 14, 2018, the Council will host a Fishers Forum between 6 p.m. and 9 p.m. All times listed are local island times.

Agenda items noted as “Final Action Items” refer to actions that result in Council transmittal of a proposed fishery management plan, proposed plan amendment, or proposed regulations to the U.S. Secretary of Commerce, under Sections 304 or 305 of the MSA. In addition to the agenda items listed here, the Council and its advisory bodies will hear recommendations from Council advisors. An opportunity to submit public comment will be provided throughout the agendas. The order in which agenda items are addressed may change and will be announced in advance at the Council meeting. The meetings will run as late as necessary to complete scheduled business. Background documents will be available from, and written comments should be sent to, Kitty M. Simonds, Executive Director; Western Pacific Fishery Management Council, 1164 Bishop Street, Suite 1400, Honolulu, HI 96813, phone: (808) 522-8220 or fax: (808) 522-8226.

Agenda for the SSPC Meeting

Monday, March 5, 2018, 1 p.m. to 5 p.m.

1. Welcome and Introductions

2. New Emerging Issues by Region

A. American Samoa

B. CNMI

C. Guam

D. Hawaii

3. Review of the Draft 2017 Socioeconomic Module of the Annual Stock Assessment and Fisheries Evaluation (SAFE) Report

4. Report on PIFSC Response to the External Review

5. Review and Update of SSPC Research Priorities

6. Recommendations

7. Other Business

Agenda for 128th SSC Meeting

Tuesday, March 6, 2018, 8:30 a.m. to 5 p.m.

1. Introductions

2. Approval of Draft Agenda and Assignment of Rapporteurs

3. Status of the 127th SSC Meeting Recommendations

4. Report from the Pacific Islands Fisheries Science Center Director

5. Insular Fisheries

A. Main Hawaiian Islands Deep 7 Bottomfish Fishery

1. Report on the Western Pacific Stock Assessment Review (WPSAR) of the Main Hawaiian Islands Deep 7 Bottomfish Fishery

2. Stock assessment for the Main Hawaiian Islands Deep 7 Bottomfish Complex 2018, with Catch Projections Through 2022

B. Options for Refining Precious Corals Essential Fish Habitat (EFH) (Initial Action Item)

C. Updates to the Ecosystem Component Classification (Initial Action Item)

D. Public Comment

E. SSC Discussion and Recommendations

6. Program Planning and Research

A. Report on the National Scientific Coordinating Subcommittee (SCS) Meeting 6

B. Potential Ecosystem Indicators for Nearshore Fisheries

C. Implementing Ecosystem-Based Fisheries Management (EBFM) in the Western Pacific Region

D. Updating the Management Strategy Evaluation Priorities

E. Public Comment

F. SSC Discussion and Recommendations

Wednesday, March 7, 2018, 8:30 a.m. to 5 p.m.

7. Pelagic Fisheries

A. Hawaii Longline Fisheries

1. Hawaii Annual Longline Fisheries Report

2. Framework for Managing Sea Turtle Interactions in the Hawaii Shallow-set Longline Fishery (Initial Action Item)

B. U.S. Territory Longline Bigeye Specification (Final Action Item)

C. American Samoa Longline Fisheries

1. American Samoa Annual Longline Fisheries Report

2. American Samoa Large Vessel Prohibited Area (Final Action Item)

a. Report on American Samoa Cultural Fishing

3. American Samoa Swordfish Trip Limit (Final Action Item)

D. Electronic Monitoring and Reporting

1. Electronic Monitoring in the Hawaii Longline Fisheries

2. Electronic Reporting in the Hawaii Longline Fisheries

3. Pacific Islands Regional Office (PIRO) Observer Program Electronic Reporting

E. International Fisheries

1. Western Central Pacific Fisheries Commission (WCPFC) 14 Outcomes

F. Public Comment

G. SSC Discussion and Action

8. Protected Species

A. Report of the Albatross Workshop

B. Report of the 2017 Hawaiian Islands Cetacean and Ecosystem Assessment Survey

C. False Killer Whale Take Reduction Measures

D. Updates on Endangered Species Act and Marine Mammal Protection Act Actions

1. Insular False Killer Whale Critical Habitat

2. Insular False Killer Whale Recovery Plan

3. Coral Critical Habitat

4. Loggerhead Turtle Recovery Plan

5. Oceanic Whitetip Shark and Giant Manta Ray Listing Final Rules

6. Other Actions

E. Public Comment

F. SSC Discussion and Recommendations

Thursday, March 8, 2018, 8:30 a.m. to 5 p.m.

9. Other Business

A. 129th SSC Meeting

B. Updates From the Social Science Planning Committee

C. Revisions to the SSC three year plan

10. Summary of SSC Recommendations to the Council

Agenda for the Executive, Budget and Legislative Standing Committee

Tuesday, March 13, 2018, 9 a.m. to 12 noon (9:30 a.m. to 10 a.m. CLOSED)

1. Administrative Report

2. Financial Report

3. 2018 Council Member Appointments

4. Update on Litigation (Closed Session—pursuant to MSA § 302(i)(3))

5. Meetings and Workshops

6. Council Family Changes

7. Standard Operating Policies and Procedures (SOPP) Changes

8. Other Issues

9. Public Comment

10. Discussion and Recommendations

Agenda for the Pelagic and International Standing Committee

Tuesday, March 13, 2018, 2 p.m. to 5 p.m.

1. Introduction and Opening of Committee Meeting

2. American Samoa Large Vessel Prohibited Area (Final Action Item)

3. American Samoa Longline Swordfish Trip Limit (Final Action Item)

4. Framework for Managing Sea Turtle Interactions in the Hawaii Shallow-set Longline Fishery (Initial Action Item)

5. U.S. Territory Longline Bigeye Specification (Final Action Item)

6. Pelagics FEP Frameworks

A. Amend Recommendation Made at the 161st Meeting to the Pelagic FEP Amendment To Establish a Framework for the Specification of WCPFC Catch and Effort Limits for U.S. Pelagic Fisheries in the Western Pacific Region To Include Other Measures, IATTC and any other RFMO legislation that authorizes implementation under the MSA (Final Action Item)

B. Modification to US Participating Territory Catch and Effort Limit Amendment 7 Framework (Final Action Item)

7. Advisory Group Report and Recommendations

A. Advisory Panels

B. Scientific & Statistical Committee

8. Other Issues

9. Public Comment

10. Committee Discussion and Action

Agenda for 172nd Council Meeting

Wednesday, March 14, 2018, 8:30 a.m. to 5 p.m.

1. Welcome and Introductions

2. Approval of the 172nd Agenda

3. Approval of the 171st Meeting Minutes

4. Executive Director's Report

5. Agency Reports

A. National Marine Fisheries Service

1. Pacific Islands Regional Office

a. Status of Executive Order 13795 Review

2. Pacific Islands Fisheries Science Center

B. NOAA Office of General Counsel, Pacific Islands Section

C. U.S. State Department

D. U.S. Fish and Wildlife Service

1. Status of Executive Order 13792 Review

E. Enforcement

1. U.S. Coast Guard

2. NOAA Office of Law Enforcement

3. NOAA Office of General Counsel, Enforcement Section

F. Legislative Standing Committee Recommendations

G. Public Comment

H. Council Discussion and Action

6. Hawaii Archipelago & Pacific Remote Island Areas

A. Moku Pepa

B. Legislative Report

C. Enforcement Issues

D. Community Issues

1. Report of Puwalu Umi

E. Identifying Priority Areas for Effective Management of at least 30% of Hawaii's Nearshore Waters

F. Main Hawaiian Islands Deep 7 Bottomfish Fishery

1. Report on the Main Hawaiian Islands Deep 7 Bottomfish WPSAR

2. Stock Assessment for the Main Hawaiian Islands Deep 7 Bottomfish Complex 2018, with Catch Projections Through 2022

G. SSC Review of the Terms of Reference for the WPSAR of the Kona crab benchmark assessment

H. Education and Outreach Initiatives

I. Advisory Group Report and Recommendations

1. Hawaii Archipelago Fishery Ecosystem Plan Advisory Panel

2. Scientific & Statistical Committee

J. Public Comment

K. Council Discussion and Action

7. Protected Species

A. Report of the Albatross Workshop

B. Report of the 2017 Hawaiian Islands Cetacean and Ecosystem Assessment Survey

C. False Killer Whale Take Reduction Measures

D. Updates on Endangered Species Act and Marine Mammal Protection Act Actions

1. Insular False Killer Whale Critical Habitat

2. Insular False Killer Whale Recovery Plan

3. Coral Critical Habitat

4. Loggerhead Turtle Recovery Plan

5. Oceanic Whitetip Shark and Giant Manta Ray Listing Final Rules

6. Other Actions

E. Advisory Group Report and Recommendations

1. Advisory Panels

2. Scientific & Statistical Committee

F. Public Comment

G. Council Discussion and Action

Wednesday, March 14, 2018, 4 p.m.

Public Comment on Non-agenda Items

Wednesday, March 14, 2018, 6 p.m. to 9 p.m.

Fishers Forum—Hawai`i Fisheries: Getting the Full Story

Thursday, March 15, 2018, 8:30 a.m. to 5 p.m.

8. Program Planning and Research

A. Updates on the Ecosystem Component Species Classification (Initial Action Item)

B. Omnibus Amendment To Establish an Aquaculture Management Program (Initial Action Item)

C. Options for Refining Precious Corals EFH (Initial Action Item)

D. Report on the National SCS Meeting 6

E. Potential Ecosystem Indicators for Nearshore Fisheries

F. Ecosystem-Based Fisheries Management in the Western Pacific Region

G. Scoping Report on Non-Fishing Impacts to EFH

H. Update on Regional Coastal Marine Spatial Planning/Ocean Planning Efforts

I. Regional, National and International Outreach & Education

J. Advisory Group Report and Recommendations

1. Advisory Panels

2. Hawaii Regional Ecosystem Advisory Committee

3. Joint Advisory Group

a. CNMI

b. Guam

4. Archipelagic Plan Team

5. Scientific & Statistical Committee

K. Public Hearing

L. Council Discussion and Action

9. Pelagic & International Fisheries

A. Hawaii Longline Fisheries

1. Hawaii Annual Longline Fisheries Report

2. Framework for Managing Sea Turtle Interactions in the Hawaii Shallow-set Longline Fishery (Initial Action Item)

B. U.S. Territory Longline Bigeye Specification (Final Action Item)

C. Pelagics FEP Frameworks

1. Amend recommendation made at the 161st meeting to the Pelagic FEP Amendment to Establish a Framework for the Specification of WCPFC Catch and Effort Limits for U.S. Pelagic Fisheries in the Western Pacific Region To Include Other Measures, IATTC and Any Other RFMO Legislation That Authorizes Implementation Under the MSA (Final Action Item)

2. Modification to U.S. Participating Territory Catch and Effort Limit Amendment 7 Framework (Final Action Item)

D. American Samoa Longline Fisheries

1. American Samoa Annual Longline Fisheries Report

2. American Samoa Large Vessel Prohibited Area (Final Action Item)

a. Report on American Samoa Cultural Fishing

3. American Samoa Swordfish Trip Limit (Final Action Item)

E. Update on Electronic Monitoring and Reporting

1. Electronic Monitoring in the Hawaii Longline Fisheries

2. Electronic Reporting in the Hawaii Longline Fisheries

3. PIRO Observer Program Electronic Reporting

F. International Fisheries Meetings

1. WCPFC 14 Outcomes

2. SPRFMO 6 Outcomes

G. Advisory Group Report and Recommendations

1. Advisory Panels

2. Scientific & Statistical Committee

H. Pelagic & International Standing Committee Recommendations

I. Public Hearing

J. Council Discussion and Action

10. American Samoa Archipelago

A. Motu Lipoti

B. Fono Report

C. Enforcement Issues

D. Community Activities and Issues

1. Aunu`u Ice Machine

2. Report on Tuna Canneries

a. StarKist Resumes Operations in November 2017

b. Status of Tri-Marine STP Operations in American Samoa

3. ASG Fisheries Development Projects

a. Malaloa Longline Dock Extension Project

b. Tutuila and Manu`a Alia Repair

c. Fishermen Training Program

d. Working Alia Project and Loan Program Update

e. Fagatogo Fish Market & Bottomfish Export

E. Status of Manu`a Fishermen's Cooperatives

F. American Samoa Marine Conservation Plan (Final Action Item)

G. Education and Outreach

1. Report on Council Scholarship Students

2. Lunar Calendar

H. Advisory Group Reports and Recommendations

1. American Samoa Archipelago Advisory Panel

2. Scientific & Statistical Committee

I. Public Hearing

J. Council Discussion and Action

Friday, March 16, 2018, 8:30 a.m. to 5 p.m.

11. Mariana Archipelago

A. Guam

1. Isla Informe

2. Legislative Report

3. Enforcement Issues

4. Community Activities and Issues

a. Update on Territorial Science Initiative

b. Marine Recreational Information Program (MRIP) Spearfishing Data Collection Project

5. Education and Outreach Initiatives

B. Commonwealth of Northern Mariana Islands

1. Arongol Falú/Asunton i Tano

2. Legislative Report

3. Enforcement Issues

4. Community Activities and Issues

5. Education and Outreach Initiatives

C. Update on Marianas Trench Marine National Monument Management Plan and Sanctuary Request

D. Update on CNMI Marinas and Minimum Size Regulations

E. Advisory Group Reports and Recommendations

1. Mariana Archipelago FEP Advisory Panel

2. Scientific & Statistical Committee

F. Public Comment

G. Council Discussion and Action

12. Administrative Matters

A. Council Member and Staff Annual Training on Standards of Conduct

B. Financial Reports

C. Administrative Reports

D. Update on Information Inquiries and Responses

E. Council Family Changes

1. Education Committee

2. SSC

F. Report on the Winter CCC Meeting

G. SOPP Changes

H. Meetings and Workshops

I. 2018 Council Member Appointments

J. Other Business

K. Executive and Budget Standing Committee Recommendations

L. Public Comment

M. Council Discussion and Action

13. Other Business

Non-emergency issues not contained in this agenda may come before the Council for discussion and formal Council action during its 172nd meeting. However, Council action on regulatory issues will be restricted to those issues specifically listed in this document and any regulatory issue arising after publication of this document that requires emergency action under section 305(c) of the Magnuson-Stevens Act, provided the public has been notified of the Council's intent to take action to address the emergency.

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: February 14, 2018.
Jeffrey N. Lonergan,
Acting Deputy Director, Office of Sustainable Fisheries, National Marine Fisheries Service.

[FR Doc. 2018-03413 Filed 2-16-18; 8:45 am]

BILLING CODE 3510-22-P